DEPARTMENT OF THE INTERIOR

Office of Natural Resources Revenue

30 CFR Parts 1202, 1204, 1206, 1207, 1210, 1218, 1220, 1243, and 1290

[Docket No. ONRR-2011-0022] [DS63610300 DR2PS0000.CH7000 134D0102R2]

RIN 1012-AA09

Amendments to ONRR's Remaining OMB-Approved Forms and Acronyms To Reflect Reorganization

AGENCY: Office of Natural Resources Revenue (ONRR), Office of the Secretary, Interior.

ACTION: Direct final rule.

SUMMARY: On May 19, 2010, the Secretary of the Interior separated and reassigned responsibilities previously performed by the former Minerals Management Service (MMS) to three separate organizations. As part of this reorganization, on October 1, 2010, the Secretary established the Office of Natural Resources Revenue (ONRR) within the Office of the Assistant Secretary—Policy, Management and Budget (PMB). At the same time, ONRR initiated a CFR chapter reorganization. This direct final rule amends the remaining Office of Management and Budget (OMB) approved form numbers for information collection requirements and corresponding technical corrections to part and position titles, agency names, and acronyms.

DATES: This rule is effective on May 22, 2013.

FOR FURTHER INFORMATION CONTACT: For questions on technical issues, contact Armand Southall, Regulatory Specialist, ONRR, telephone (303) 231-3221; or email armand.southall@onrr.gov. You may obtain a paper copy of this rule by contacting Mr. Southall by phone or email.

SUPPLEMENTARY INFORMATION:

I. Background

On May 19, 2010, by Secretarial Order No. 3299, the Secretary of the Department of the Interior (Secretary) announced the restructuring of MMS. On June 18, 2010, by Secretarial Order No. 3302, the Secretary announced the name change of MMS to the Bureau of Ocean Energy Management, Regulation, and Enforcement (BOEMRE). By these orders, the Secretary separated and reassigned the responsibilities previously performed by the former MMS to three separate organizations: the Office of Natural Resources Revenue, the Bureau of Ocean Energy Management (BOEM), and the Bureau of Safety and Environmental Enforcement (BSEE). ONRR is responsible for the royalty management functions of the former MMS's Minerals Revenue Management Program.

II. Explanation of Amendments

In this direct final rule, ONRR merely amends its remaining OMB-approved form numbers for information collection requests listed in certain parts of title 30 CFR, chapter XII. ONRR does not make any substantive changes in this direct final rule to the regulations or requirements in chapter XII. We also merely make any necessary corresponding technical corrections to part and position titles, agency names, and acronyms. This rule will not have any effect on the rights, obligations, or interests of any affected parties. Thus, under 5 U.S.C. 553(b)(B), ONRR, for good cause, finds that notice and comment on this rule are unnecessary and contrary to the public interest. Additionally, because this document is a “rule(. . .) of agency organization, procedure or practice” under 5 U.S.C. 553(b)(A), this document is, in any event, exempt from the notice and comment requirements of 5 U.S.C. 553(b). Lastly, because this non-substantive rule makes no changes to the legal obligations or rights of any affected parties, and because it is in the public interest for this rule to be effective as soon as possible, ONRR finds that good cause exists under 5 U.S.C. 553(d)(3) to make this rule effective immediately upon publication in the Federal Register rather than 30 days after publication.

As noted, this direct final rule amends the following 30 CFR parts and the related existing subparts:

• Part 1202—Royalties

• Part 1204—Alternatives for Marginal Properties

• Part 1206—Product Valuation

• Part 1207—Sales Agreements or Contracts Governing the Disposal of Lease Products

• Part 1210—Forms and Reports

• Part 1218—Collection of Royalties, Rentals, Bonuses, and Other Monies Due the Federal Government

• Part 1220—Accounting Procedures For Determining Net Profit Share Payment For Outer Continental Shelf Oil and Gas Leases

• Part 1243—Suspensions Pending Appeal and Bonding—Office of Natural Resources Revenue

• Part 1290—Appeal Procedures

The following sections explain further these amendments to the regulations:

Subchapter A—Natural Resources Revenue

A. Part 1202—Royalties

We are revising part 1202, subparts C, D, and H.

Acronyms, Agency Names, OMB-approved Form Numbers, and Section Numbers. We are amending sections to replace “Bureau of Ocean Energy Management, Regulations, and Enforcement” with “Bureau of Ocean Energy Management” or “Bureau of Safety and Environmental Enforcement” and “BOEMRE” with “BOEM” or “BSEE,” respectively. We also are amending our OMB-approved form numbers, listed in this part, to replace “MMS” with “ONRR” as we complete our form update process. In addition, we are correcting a misprinted section number from § 202.350 to § 1202.350 due to reorganizing and repromulgating our regulations in chapter XII, title 30 CFR.

B. Part 1204—Alternatives for Marginal Properties

We are revising part 1204, subpart C.

Acronym, OMB-approved Form Numbers, and Section Numbers. We are updating this subpart to replace references of “BOEMRE” with “BOEM.” We also are amending OMB-approved form numbers, listed in this part, to replace “MMS” with “ONRR” as we complete our form-update process. We also are revising § 1204.215 in Plain Language to meet the criteria of Executive Orders 12866 and 12988, and the Presidential Memorandum dated June 1, 1998, which require us to write all rules so that the public can read them more clearly and consistently. This revision makes no substantive changes as previously stated in Section II, Explanation of Amendments, of this rule. In addition, we are correcting referenced section numbers due to reorganizing and repromulgating our regulations in chapter XII, title 30 CFR.

C. Part 1206—Product Valuation

We are revising part 1206, subparts B, C, D, E, F, H, and J.

Acronyms, Definitions, OMB-approved Form Numbers, and Section Numbers. We are amending the OMB-approved form numbers, listed in this part, to replace “MMS” with “ONRR” as we complete our form-update process. We also are amending this part to replace references of “BOEMRE” with “BOEM” or “BSEE,” depending on the context. We also are adding new definitions, “BOEM” and “BSEE,” into §§ 1206.101 and 1206.151 and amending § 1206.364(d) to remove “subpart B.” In addition, we are correcting referenced part and section numbers due to reorganizing and repromulgating our regulations in chapter XII, title 30 CFR.

D. Part 1207—Sales Agreements or Contracts Governing the Disposal of Lease Products

We are revising part 1207, subpart A.

Acronyms, Addresses, Agency Names, and Sections. In paragraph (a) of § 1207.1, we removed the first sentence and replaced it with sentences rewritten in Plain Language. Also, in paragraph (b) of § 1207.1, we are rewriting the paragraph in Plain Language to include ONRR's address and the OMB control number. We also are amending sections to replace “Bureau of Ocean Energy Management, Regulations, and Enforcement (BOEMRE)” with “Bureau of Ocean Energy Management (BOEM)” and “BOEMRE” with “BOEM.” In addition, we are adding “Bureau of Safety and Environmental Enforcement” to § 1207.5 so that BSEE will receive copies of all sales contracts, agreements, etc.

E. Part 1210—Forms and Reports

We are revising part 1210, subparts A, B, C, D, E, and H.

OMB-approved Form Numbers. Currently, 30 CFR 1210.10 contains a list of information collections that OMB approved prior to ONRR's separation from BOEMRE. In this rule, we are providing, under 30 CFR 1210.10, an updated information collection requests (ICR) table showing the OMB-approved form numbers for current ICRs. We are amending the OMB-approved form numbers, listed in this part, to replace “MMS” with “ONRR” as we complete our form-update process. We also are correcting § 1210.205 to label the first paragraph as “(a).” In addition, we are revising § 1210.353 in Plain Language.

F. Part 1218—Collection of Royalties, Rentals, Bonuses, and Other Monies Due the Federal Government

We are revising part 1218, subparts A, B, D, E, and H.

Acronyms, Agency Name, OMB-approved Form Numbers, and Section Numbers. We are amending sections to replace “BOEMRE” with “Bureau of Safety and Environmental Enforcement (BSEE)” and “BSEE.” We also are amending the form numbers, listed in this part, to replace “MMS” with “ONRR” as we complete our form-update process. In addition, we are correcting referenced section numbers due to reorganizing and repromulgating our regulations in chapter XII, title 30 CFR.

G. Part 1220—Accounting Procedures for Determining Net Profit Share Payment for Outer Continental Shelf Oil and Gas Leases

Acronyms, Agency names, and Definition. We are amending subparagraph (1) in the definition of Capital recovery period in § 1220.002 to replace “Bureau of Ocean Energy Management, Regulations, and Enforcement (BOEMRE)” with “Bureau of Ocean Energy Management (BOEM).” We also are amending subparagraph (3) in the definition of Capital recovery period in § 1220.002 to replace “Director” with “BOEM Director.” We also are deleting the definition of Director in § 1220.002 because we will list and identify three different Directors in the Department of the Interior (DOI) who we reference in this part. In addition, we are amending sections to replace “Director” with “BOEM Director” or “Bureau of Safety and Environmental Enforcement (BSEE) Director” or “BSEE Director” or “Office of Natural Resources Revenue (ONRR) Director” or “ONRR Director.”

H. Part 1243—Suspensions Pending Appeal And Bonding—Office of Natural Resources Revenue

We are revising part 1243, subpart A.

Acronym, Agency name, and Definition. We are amending the definition of “ONRR bond-approving officer” in § 1243.3 to replace “Associate Director for Minerals Revenue Management” with “Deputy Director for Office of Natural Resources Revenue” and “Associate Director” with “Deputy Director.” We also are amending § 1243.8 to replace “BOEMRE” with “Bureau of Ocean Energy Management.”

Subchapter B—Appeals

I. Part 1290—Appeal Procedures

We are amending part 1290 by updating referenced section text to replace “subpart” with “part” due to reorganizing and repromulgating our regulations in chapter XII, title 30 CFR.

III. Procedural Matters

Regulatory Planning and Review (Executive Orders 12866 and 13563)

Executive Order (E.O.) 12866 provides that the Office of Information and Regulatory Affairs (OIRA) will review all significant rules. OIRA has determined that this rule is not significant.

Executive Order 13563 reaffirms the principles of E.O. 12866, while calling for improvements in the Nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. We have developed this rule in a manner consistent with these requirements.

Regulatory Flexibility Act

DOI certifies that this direct final rule does not have a significant economic effect on a substantial number of small entities under the Regulatory Flexibility Act (5 U.S.C. 601 et seq.). This direct final rule will impact large and small entities but will not have a significant economic effect on either because this is a technical rule renumbering already approved OMB control numbers, renaming certain forms, and correcting corresponding part and position titles, agency names, and acronyms for ONRR's information collection requirements (ICRs) listed in title 30 CFR, chapter XII, regulations.

Small Business Regulatory Enforcement Fairness Act

This direct final rule is not a major rule under 5 U.S.C. 804(2), the Small Business Regulatory Enforcement Fairness Act. This direct final rule:

a. Does not have an annual effect on the economy of $100 million or more.

b. Will not cause a major increase in costs or prices for consumers; individual industries; Federal, State, or local government agencies; or geographic regions.

c. Does not have significant adverse effects on competition, employment, investment, productivity, innovation, or the ability of U.S.-based enterprises to compete with foreign-based enterprises.

This is only a technical rule renumbering already approved OMB control numbers, renaming certain forms, and correcting corresponding part and position titles, agency names, and acronyms for ONRR's information collection requirements (ICRs) listed in title 30 CFR, chapter XII, regulations.

Unfunded Mandates Reform Act

This direct final rule does not impose an unfunded mandate on State, local, or tribal governments or the private sector of more than $100 million per year. This direct final rule does not have a significant or unique effect on State, local, or tribal governments or the private sector. We are not required to provide a statement containing the information that the Unfunded Mandates Reform Act (2 U.S.C. 1531 et seq.) requires because this is a technical rule renumbering already approved OMB control numbers, renaming certain forms, and correcting corresponding part and position titles, agency names, and acronyms for ONRR's ICRs.

Takings (E.O. 12630)

Under the criteria in section 2 of Executive Order 12630, this direct final rule does not have any significant takings implications. This direct final rule applies to Outer Continental Shelf (OCS), Federal onshore, and Indian onshore leases. It does not apply to private property. This direct final rule does not require a Takings Implication Assessment.

Federalism (E.O. 13132)

Under the criteria in section 1 of Executive Order 13132, this direct final rule does not have sufficient federalism implications to warrant the preparation of a Federalism summary impact statement. This is a technical rule renumbering already approved OMB control numbers, renaming certain forms, and correcting corresponding part and position titles, agency names, and acronyms for ONRR's ICRs listed in title 30 CFR, chapter XII, regulations. This direct final rule does not require a Federalism summary impact statement.

Civil Justice Reform (E.O. 12988)

This direct final rule complies With the requirements of E. O. 12988 for the reasons outlined in the following paragraphs.

a. This rule meets the criteria of section 3(a), which requires that we review all regulations to eliminate errors and ambiguity and to write them to minimize litigation.

b. This rule meets the criteria of section 3(b)(2), which requires that we write all regulations in clear language with clear legal standards.

Consultation With Indian Tribes (E.O. 13175 and Department policy)

DOI strives to strengthen its government-to-government relationship with Indian Tribes through a commitment to consultation with Indian Tribes and recognition of their right to self-governance and tribal sovereignty. Under DOI's consultation policy and the criteria in Executive Order 13175, we have evaluated this direct final rule and determined that it has no substantial direct effects on federally recognized Indian tribes. Therefore, we are not required to complete a consultation under DOI's tribal consultation policy.

Paperwork Reduction Act

This direct final rule does not contain any information collection requirements and does not require a submission to OIRA under the Paperwork Reduction Act of 1995 (44 U.S.C. 3501 et seq.).

National Environmental Policy Act

This rule does not constitute a major Federal action significantly affecting the quality of the human environment. We are not required to provide a detailed statement under the National Environmental Policy Act of 1969 (NEPA) because this rule qualifies for categorical exclusion under 43 CFR 46.210(i) and the DOI Departmental Manual, part 516, section 15.4.D: “(i) Policies, directives, regulations, and guidelines: that are of an administrative, financial, legal, technical, or procedural nature.” We have also determined that this rule is not involved in any of the extraordinary circumstances listed in 43 CFR 46.215 that would require further analysis under NEPA. The procedural changes resulting from these amendments have no consequences with respect to the physical environment. This rule will not alter in any material way natural resource exploration, production, or transportation.

Information Quality Act

In accordance with the Information Quality Act, DOI has issued guidance regarding the quality of information that it relies on for regulatory decisions. This guidance is available on DOI's Web site at http://www.doi.gov/ocio/information_management/iq.cfm.

Effects on the Energy Supply (E.O. 13211)

This direct final rule is not a significant energy action under the definition in E.O. 13211, and, therefore, it does not require a Statement of Energy Effects.

List of Subjects

30 CFR Part 1202

Coal, Continental shelf, Geothermal energy, Government contracts, Indians—lands, Mineral royalties, Oil and gas exploration, Public lands—mineral resources, Reporting and recordkeeping requirements, Sulfur.

30 CFR Part 1204

Accounting and auditing relief, Barrels of oil equivalent (BOE), Continental shelf, Federal lease, Marginal property, Mineral royalties, Royalty prepayment, Royalty relief.

30 CFR Part 1206

Coal, Continental shelf, Geothermal energy, Government contracts, Indians—lands, Mineral royalties, Oil and gas exploration, Public lands—mineral resources, Reporting and recordkeeping requirements.

30 CFR Part 1207

Continental shelf, Government contracts, Indians—lands, Mineral royalties, Public lands—mineral resources, Reporting and recordkeeping requirements.

30 CFR Part 1210

Continental shelf, Geothermal energy, Government contracts, Indians—lands, Mineral royalties, Oil and gas exploration, Public lands—mineral resources, Reporting and recordkeeping requirements, Sulfur.

30 CFR part 1218

Continental shelf, Electronic funds transfers, Geothermal energy, Indians—lands, Mineral royalties, Oil and gas exploration, Public lands—mineral resources, Reporting and recordkeeping requirements.

30 CFR Part 1220

Accounting, Continental shelf, Government contracts, Mineral royalties, Oil and gas exploration, Public lands—mineral resources, Reporting and recordkeeping requirements.

30 CFR Part 1243

Administrative practice and procedure, Government contracts, Mineral royalties, Public lands—mineral resources.

30 CFR Part 1290

Administrative practice and procedure.

Dated: May 9, 2013.
Rhea Suh,
Assistant Secretary, Policy, Management and Budget.

Authority and Issuance

For the reasons discussed in the preamble, under the authority provided by the Reorganization Plan No. 3 of 1950 (64 Stat. 1262) and Secretarial Order Nos. 3299 and 3302, ONRR amends parts 1202, 1204, 1206, 1207, 1210, 1218, 1220, 1243, and 1290 of title 30 CFR, chapter XII, subchapters A and B, as follows:

PART 1202—ROYALTIES

1. The authority citation for part 1202 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., 1801 et seq.

§ 1202.350 [Corrected]

2. Correctly revise the section designation for § 201.350 to read § 1202.350

§§ 1202.100, 1202.150, 1202.151, 1202.350, 1202.353 [Amended]

3. In the following table, amend part 1202 in the sections indicated in the left column by removing the text in the center column and adding in its place the text in the right column:

Amend | By removing the reference to: | And adding in its place:
§ 1202.100(b)(1) | Bureau of Ocean Energy Management, Regulations, and Enforcement (BOEMRE) | Bureau of Safety and Environmental Enforcement (BSEE).
§ 1202.100(b)(2) | BOEMRE | BSEE.
§ 1202.100(c) | BOEMRE | BSEE.
§ 1202.150(b)(1) | BOEMRE | BSEE.
§ 1202.150(b)(2) | BOEMRE | BSEE.
§ 1202.150(c) | BOEMRE | BSEE.
§ 1202.151(c) | BOEMRE | Bureau of Ocean Energy Management (BOEM).
§ 1202.353(a) | MMS-2014 | ONRR-2014.
§ 1202.353(b) | MMS-2014 | ONRR-2014.
§ 1202.353(c) | MMS-2014 | ONRR-2014.
§ 1202.353(d) | MMS-2014 | ONRR-2014.

PART 1204—ALTERNATIVES FOR MARGINAL PROPERTIES

4. The authority citation for part 1204 continues to read as follows:

Authority: 30 U.S.C. 1701 et seq.

§§ 1204.202, 1204.206, and 1204.210 [Amended]

5. In the following table, amend part 1204 in the sections indicated in the left column by removing the text in the center column and adding in its place the text in the right column:

Amend | By removing the reference to: | And adding in its place:
§ 1204.202(b)(3) | MMS-2014 | ONRR-2014.
§ 1204.202(b)(4) | MMS-2014 | ONRR-2014.
§ 1204.202(b)(5) | MMS-2014 | ONRR-2014.
§ 1204.202(d)(2) | MMS-2014 | ONRR-2014.
§ 1204.202(e)(2) | § 218.54 | § 1218.54.
§ 1204.206 introductory text | § 204.1205(b) | § 1204.205(b).
§ 1204.210 introductory text | BOEMRE | BOEM.
§ 1204.210(b) | BOEMRE | BOEM.
§ 1204.210(c) (two times) | BOEMRE | BOEM.

§ 1204.215 [Amended]

6. Revise § 1204.215 to read as follows:

§ 1204.215 Are the information collection requirements in this subpart approved by the Office of Management and Budget (OMB)?

OMB approved the information collection requirements contained in this subpart under 44 U.S.C. 3501 et seq. ONRR identifies the approved OMB control number in 30 CFR 1210.10.

PART 1206—PRODUCT VALUATION

7. The authority citation for part 1206 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

§§ 1206.51, 1206.56, 1206.57, 1206.101, 1206.109, 1206.110, 1206.111, 1206.112, 1206.114, 1206.115, 1206.116, 1206.117, 1206.119, 1206.120, 1206.151, 1206.152, 1206.153, 1206.154, 1206.156, 1206.157, 1206.158, 1206.159, 1206.172, 1206.174, 1206.177, 1206.178, 1206.180, 1206.251, 1206.254, 1206.257, 1206.259, 1206.262, 1206.351, 1206.353, 1206.354, 1206.356, 1206.358, 1206.359, 1206.456, 1206.458, and 1206.461 [Amended]

8. In the following table, amend part 1206 in the sections indicated in the left column by removing the text in the center column and adding in its place the text in the right column:

Amend | By removing the reference to: | And adding in its place:
§ 1206.51, definition of Net | MMS-2014 | ONRR-2014.
§ 1206.56(b)(2) | MMS-4393 | ONRR-4393.
§ 1206.57(a)(1)(i) (two times) | MMS-4110 | ONRR-4110.
§ 1206.57(b)(1) (two times) | MMS-4110 | ONRR-4110.
§ 1206.57(c)(1)(i) (two times) | MMS-4110 | ONRR-4110.
§ 1206.57(c)(1)(i) (two times) | MMS-2014 | ONRR-2014.
§ 1206.57(c)(1)(ii) | MMS-4110 | ONRR-4110.
§ 1206.57(c)(1)(iii) | MMS-4110 | ONRR-4110.
§ 1206.57(c)(2)(i) (two times) | MMS-4110 | ONRR-4110.
§ 1206.57(c)(2)(i) (two times) | MMS-2014 | ONRR-2014.
§ 1206.57(c)(2)(ii) | MMS-4110 | ONRR-4110.
§ 1206.57(c)(2)(iii) (three times) | MMS-4110 | ONRR-4110.
§ 1206.57(c)(2)(iv) | MMS-4110 | ONRR-4110.
§ 1206.57(c)(2)(vi) | MMS-4110 | ONRR-4110.
§ 1206.57(c)(4) | MMS-2014 | ONRR-2014.
§ 1206.57(d)(1) | MMS-2014 | ONRR-2014.
§ 1206.57(e)(1) (two times) | MMS-2014 | ONRR-2014.
§ 1206.101, definition of Field | ONRR | BOEM.
§ 1206.101, definition of Gathering | ONRR | BSEE.
§ 1206.101, definition of Netting | MMS-2014 | ONRR-2014.
§ 1206.109(c)(2) | MMS-4393 | ONRR-4393.
§ 1206.109(e) | MMS-2014 | ONRR-2014.
§ 1206.110(e)(1) | MMS-2014 | ONRR-2014.
§ 1206.110(e)(2) | MMS-2014 | ONRR-2014.
§ 1206.110(g) | MMS-2014 | ONRR-2014.
§ 1206.111(l)(2) | MMS-2014 | ONRR-2014.
§ 1206.111(l)(3) | MMS-2014 | ONRR-2014.
§ 1206.112(c)(1) | BOEMRE | BSEE.
§ 1206.114 | MMS-2014 | ONRR-2014.
§ 1206.115(a) | MMS-2014 | ONRR-2014.
§ 1206.116(a) | MMS-2014 | ONRR-2014.
§ 1206.116(b) | MMS-2014 | ONRR-2014.
§ 1206.117(a) | MMS-2014 | ONRR-2014.
§ 1206.117(a) | § 218.54 | § 1218.54.
§ 1206.117(b) | MMS-2014 | ONRR-2014.
§ 1206.119(a) | BOEMRE | BSEE.
§ 1206.119(b) | BOEMRE | BSEE.
§ 1206.119(c) | BOEMRE | BSEE.
§ 1206.120 | BOEMRE | BOEM.
§ 1206.120 | BOEMRE | BOEM.
§ 1206.151, definition of Field | BOEMRE | BOEM.
§ 1206.151, definition of Gathering | BOEMRE | BSEE.
§ 1206.151, definition of Netting | MMS-2014 | ONRR-2014.
§ 1206.152(e)(3) | MMS-2014 | ONRR-2014.
§ 1206.153(e)(3) | MMS-2014 | ONRR-2014.
§ 1206.154(a)(1) | BOEMRE | BSEE.
§ 1206.154(a)(2) | BOEMRE | BSEE.
§ 1206.154(d)(1) | BOEMRE | BSEE.
§ 1206.156(c)(3) | MMS-4393 | ONRR-4393.
§ 1206.156(d) | MMS-2014 | ONRR-2014.
§ 1206.157(a)(1)(i) | ONRR' | ONRR's.
§ 1206.157(a)(1)(i) | MMS-2014 | ONRR-2014.
§ 1206.157(a)(3) | MMS-2014 | ONRR-2014.
§ 1206.157(b)(1) | MMS-2014 | ONRR-2014.
§ 1206.157(b)(4) | MMS-2014 | ONRR-2014.
§ 1206.157(c)(1)(i) | MMS-2014 | ONRR-2014.
§ 1206.157(c)(2)(i) | MMS-2014 | ONRR-2014.
§ 1206.157(d)(1) | MMS-2014 | ONRR-2014.
§ 1206.157(e)(1) (two times) | MMS-2014 | ONRR-2014.
§ 1206.157(e)(2) | MMS-2014 | ONRR-2014.
§ 1206.157(e)(3) | MMS-2014 | ONRR-2014.
§ 1206.157(f)(1) (two times) | MMS-2014 | ONRR-2014.
§ 1206.158(c)(3) | MMS-4393 | ONRR-4393.
§ 1206.158(e) | MMS-2014 | ONRR-2014.
§ 1206.159(a)(1)(i) | MMS-2014 | ONRR-2014.
§ 1206.159(a)(3) | MMS-2014 | ONRR-2014.
§ 1206.159(b)(1) | MMS-2014 | ONRR-2014.
§ 1206.159(c)(1)(i) | MMS-2014 | ONRR-2014.
§ 1206.159(c)(2)(i) | MMS-2014 | ONRR-2014.
§ 1206.159(d)(1) | MMS-2014 | ONRR-2014.
§ 1206.159(e)(1) (two times) | MMS-2014 | ONRR-2014.
§ 1206.159(e)(2) | MMS-2014 | ONRR-2014.
§ 1206.159(e)(3) | MMS-2014 | ONRR-2014.
§ 1206.172(b)(1)(ii) | MMS-4410 | ONRR-4410.
§ 1206.172(e)(4)(i) | 30 CFR 206.172(d) | 30 CFR 1206.172(d).
§ 1206.172(e)(6)(i) | MMS-4411 | ONRR-4411.
§ 1206.172(e)(6)(ii) | MMS-2014 | ONRR-2014.
§ 1206.172(e)(6)(iii) | MMS-4411 | ONRR-4411.
§ 1206.174(a)(4)(ii) (two times) | MMS-2014 | ONRR-2014.
§ 1206.174(a)(4)(iii) | MMS-2014 | ONRR-2014.
§ 1206.177(c)(3) | MMS-4393 | ONRR-4393.
§ 1206.178(a)(1)(i) | MMS-2014 | ONRR-2014.
§ 1206.178(b)(1)(ii) | MMS-4295 | ONRR-4295.
§ 1206.178(d)(2) | MMS-2014 | ONRR-2014.
§ 1206.178(e) (two times) | MMS-2014 | ONRR-2014.
§ 1206.178(f)(1) (two times) | MMS-2014 | ONRR-2014.
§ 1206.180(a)(1)(i) | MMS-2014 | ONRR-2014.
§ 1206.180(b)(1)(ii) | MMS-4109 | ONRR-4109.
§ 1206.180(c)(2) | MMS-2014 | ONRR-2014.
§ 1206.180(d) (two times) | MMS-2014 | ONRR-2014.
§ 1206.251, definition of Netting | MMS-4430 | ONRR-4430.
§ 1206.254 | 30 CFR part 210—Forms and Reports. | 30 CFR part 1210—Forms and Reports.
§ 1206.257(d)(3) | MMS-4430 | ONRR-4430.
§ 1206.259(a)(1) | ONRR' | ONRR's.
§ 1206.259(a)(1) | MMS-4430 | ONRR-4430.
§ 1206.259(b)(1) | MMS-4430 | ONRR-4430.
§ 1206.259(c)(1)(i) | MMS-4430 | ONRR-4430.
§ 1206.259(c)(2)(i) | MMS-4430 | ONRR-4430.
§ 1206.259(d)(1) | MMS-4430 | ONRR-4430.
§ 1206.259(e)(1) | ONNR | ONRR.
§ 1206.259(e)(2) | ONNR | ONRR.
§ 1206.262(a)(1) | MMS-4430 | ONRR-4430.
§ 1206.262(b)(1) | MMS-4430 | ONRR-4430.
§ 1206.262(c)(1)(i) | MMS-4430 | ONRR-4430.
§ 1206.262(c)(2)(i) | MMS-4430 | ONRR-4430.
§ 1206.262(d)(1) | MMS-4430 | ONRR-4430.
§ 1206.262(e)(1) (two times) | MMS-4430 | ONRR-4430.
§ 1206.262(e)(2) | MMS-4430 | ONRR-4430.
§ 1206.351, definition of Byproduct transportation allowance | MMS-2014 | ONRR-2014.
§ 1206.353(m)(2) | MMS-2014 | ONRR-2014.
§ 1206.354(m)(2) | MMS-2014 | ONRR-2014.
§ 1206.356(b)(1)(ii) | ONNR | ONRR.
§ 1206.358(d)(1) | MMS-2014 | ONRR-2014.
§ 1206.359(l)(2) | MMS-2014 | ONRR-2014.
§ 1206.456(b)(5) | ONRR' | ONRR's.
§ 1206.456(d)(1) | ONRR' | ONRR's.
§ 1206.456(d)(3) | MMS-4430 | ONRR-4430.
§ 1206.456(e) | 30 CFR 218.202 | 30 CFR 1218.202.
§ 1206.458(a)(1) (two times) | MMS-4292 | ONRR-4292.
§ 1206.458(b)(1) (two times) | MMS-4292 | ONRR-4292.
§ 1206.458(c)(1)(i) (two times) | MMS-4292 | ONRR-4292.
§ 1206.458(c)(1)(i) (two times) | MMS-4430 | ONRR-4430.
§ 1206.458(c)(1)(ii) | MMS-4292 | ONRR-4292.
§ 1206.458(c)(1)(iii) | MMS-4292 | ONRR-4292.
§ 1206.458(c)(2)(i) (two times) | MMS-4292 | ONRR-4292.
§ 1206.458(c)(2)(i) (two times) | MMS-4430 | ONRR-4430.
§ 1206.458(c)(2)(ii) | MMS-4292 | ONRR-4292.
§ 1206.458(c)(2)(iii) (three times) | MMS-4292 | ONRR-4292.
§ 1206.458(c)(2)(iv) | MMS-4292 | ONRR-4292.
§ 1206.458(c)(2)(vi) | Forms MMS-4292 | Form ONRR-4292.
§ 1206.458(c)(4) | MMS-4430 | ONRR-4430.
§ 1206.458(d)(1) | MMS-4430 | ONRR-4430.
§ 1206.458(e)(1) | MMS-4430 | ONRR-4430.
§ 1206.458(e)(2) | MMS-4430 | ONRR-4430.
§ 1206.461(a)(1) | ONRR' | ONRR's.
§ 1206.461(a)(1) (two times) | MMS-4293 | ONRR-4293.
§ 1206.461(b)(1) (two times) | MMS-4293 | ONRR-4293.
§ 1206.461(c)(1)(i) | MMS-4293 | ONRR-4293.
§ 1206.461(c)(1)(i) | MMS-4430 | ONRR-4430.
§ 1206.461(c)(1)(ii) | MMS-4293 | ONRR-4293.
§ 1206.461(c)(1)(iii) | MMS-4293 | ONRR-4293.
§ 1206.461(c)(2)(i) | MMS-4293 | ONRR-4293.
§ 1206.461(c)(2)(i) | MMS-4430 | ONRR-4430.
§ 1206.461(c)(2)(ii) | MMS-4293 | ONRR-4293.
§ 1206.461(c)(2)(iii) (three times) | MMS-4293 | ONRR-4293.
§ 1206.461(c)(2)(iv) | MMS-4293 | ONRR-4293.
§ 1206.461(c)(2)(vi) | MMS-4293 | ONRR-4293.
§ 1206.461(c)(4) | MMS-4430 | ONRR-4430.
§ 1206.461(d)(1) | MMS-4430 | ONRR-4430.
§ 1206.461(e)(1) | MMS-4430 | ONRR-4430.
§ 1206.461(e)(2) | MMS-4430 | ONRR-4430.

9. Amend § 1206.101 by adding in alphabetical order the definitions of “BOEM” and “BSEE” to read as follows:

§ 1206.101 What definitions apply to this subpart?

* * * * *

BOEM means the Bureau of Ocean Energy Management of the Department of the Interior.

BSEE means the Bureau of Safety and Environmental Enforcement of the Department of the Interior.

* * * * *

10. Amend § 1206.151 by adding in alphabetical order the definitions of “BOEM” and “BSEE” to read as follows:

§ 1206.151 Definitions.

* * * * *

BOEM means the Bureau of Ocean Energy Management of the Department of the Interior.

BSEE means the Bureau of Safety and Environmental Enforcement of the Department of the Interior.

* * * * *

§ 1206.364 [Amended]

11. Amend § 1206.364 by removing “subpart B” in paragraphs (d)(1) and (2).

PART 1207—SALES AGREEMENTS OR CONTRACTS GOVERNING THE DISPOSAL OF LEASE PRODUCTS

12. The authority citation for part 1207 continues to read as follows:

Authority: 5 U.S.C. 301 et seq.; 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 3716 et seq.; 31 U.S.C. 9701; 43 U.S.C. 1301 et seq.; 43 U.S.C. 1331 et seq.; and 43 U.S.C. 1801 et seq.

13. Revise § 1207.1 to read as follows:

§ 1207.1 Required recordkeeping.

(a) ONRR uses the information collected to determine a proper transportation allowance for the cost of transporting royalty oil from the lease to a delivery point remote from the lease. The information is required so that the lessee may obtain a benefit under the Federal Oil and Gas Royalty Management Act of 1982, 30 U.S.C. 1701 et seq. The Office of Management and Budget (OMB) approved the information collection requirements contained in this part under 44 U.S.C. 3501 et seq. ONRR identifies the approved OMB control number in 30 CFR 1210.10.

(b) Send comments regarding the burden estimates or any other aspect of this information collection, including suggestions for reducing burden, to the Office of Natural Resources Revenue, Attention: Rules & Regs Team, OMB Control Number 1012-0002, P.O. Box 25165, Denver, CO 80225-0165.

§§ 1207.4 and 1207.5 [Amended]

14. In the following table, amend part 1207 in the sections indicated in the left column by removing the text in the center column and adding in its place the text in the right column:

Amend | By removing the reference to: | And adding in its place:
§ 1207.4(a) | Bureau of Ocean Energy Management, Regulation, and Enforcement (BOEMRE) | Bureau of Ocean Energy Management (BOEM).
§ 1207.5 | BOEMRE | BOEM, Bureau of Safety and Environmental Enforcement (BSEE).

PART 1210—FORMS AND REPORTS

15. The authority citation for part 1210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

16. In § 1210.10, revise the table to read as follows:

§ 1210.10 What are the OMB-approved information collections?

* * * * *

OMB Control number and short title | Form or information collected
1012-0001, CFO Act of 1992, Accounts Receivable Confirmations | No form for the following collection: • Accounts receivable confirmations
1012-0002, 30 CFR Parts 1202, 1206, and 1207, Indian Oil and Gas Valuation | Form ONRR-4109, Gas Processing Allowance Summary Report Form ONRR-4110, Oil Transportation Allowance Report Form ONRR-4295, Gas Transportation Allowance Report
| Form ONRR-4393, Request to Exceed Regulatory Allowance Limitation ¹
| Form ONRR-4410, Accounting for Comparison [Dual Accounting]
| Form ONRR-4411, Safety Net Report
1012-0003, 30 CFR Parts 1227, 1228, and 1229, Delegated and Cooperative Activities with States and Indian Tribes | No forms for the following collections: • Written delegation proposal to perform auditing and investigative activities • Request for cooperative agreement and subsequent requirements
1012-0004, 30 CFR Parts 1210 and 1212, Royalty and Production Reporting | Form ONRR-2014, Report of Sales and Royalty Remittance Form ONRR-4054 (Parts A, B, and C), Oil and Gas Operations Report Form ONRR-4058, Production Allocation Schedule Report
1012-0005, 30 CFR Parts 1202, 1204, 1206, and 1210, Federal Oil and Gas Valuation | Form ONRR-4377, Stripper Royalty Rate Reduction Notification Form ONRR-4393, Request to Exceed Regulatory Allowance Limitation ¹
| No form for the following collection: • Federal oil valuation support information
1012-0006, 30 CFR Part 1243, Suspensions Pending Appeal and Bonding | Form ONRR-4435, Administrative Appeal Bond Form ONRR-4436, Letter of Credit Form ONRR-4437, Assignment of Certificate of Deposit
| No forms for the following collections: • Self bonding • U.S. Treasury securities
1012-0008, 30 CFR Part 1218, Collection of Monies Due the Federal Government | Form ONRR-4425, Designation Form for Royalty Payment Responsibility
| No forms for the following collections: • Cross-lease netting documentation • Indian recoupment approval
1012-0009, 30 CFR Part 1220, OCS Net Profit Share Payment Reporting | No form for the following collection: • Net profit share payment information
1012-0010, 30 CFR Parts 1202, 1206, 1210, 1212, 1217, and 1218, Solid Minerals and Geothermal Resources Collections | Form ONRR-4430, Solid Minerals Production and Royalty Report Form ONRR-4292, Coal Washing Allowance Report Form ONRR-4293, Coal Transportation Allowance Report
| No forms for the following collections: • Facility data—solid minerals • Sales contracts—solid minerals • Sales summaries—solid minerals
¹ Lessees use Form ONRR-4393 for both Federal and Indian oil and gas leases. The form resides with ICR 1012-0005, but ONRR includes the burden hours for Indian leases in ICR 1012-0002.

17. Amend § 1210.205 by revising paragraph (a) introductory text to read as follows:

(a) General. You must submit the following ONRR forms to claim a transportation or washing allowance, as applicable, on Indian coal leases:

* * * * *

§§ 1210.52, 1210.53, 1210.54, 1210.55, 1210.56, 1210.102, 1210.104, 1210.105, 1210.106, 1210.151, 1210.152, 1210.153, 1210.155, 1210.158, 1210.201, 1210.202, 1210.204, and 1210.205 [Amended]

18. In the following table, amend part 1210 in the sections indicated in the left column by removing the text in the center column and adding in its place the text in the right column:

Amend | By removing the reference to: | And adding in its place:
§ 1210.52 introductory text | MMS-2014 | ONRR-2014.
§ 1210.53(a) | MMS-2014 | ONRR-2014.
§ 1210.53(b) | MMS-2014 | ONRR-2014.
§ 1210.54(a) | MMS-2014 | ONRR-2014.
§ 1210.55(a) introductory text | MMS-2014 | ONRR-2014.
§ 1210.55(a)(2) | MMS-2014 | ONRR-2014.
§ 1210.56(a) | MMS-2014 | ONRR-2014.
§ 1210.56(c) | MMS-2014 | ONRR-2014.
§ 1210.102(a) (two times) introductory text. | MMS-4054 | ONRR-4054.
§ 1210.102(a)(1) | MMS-4054 | ONRR-4054.
§ 1210.102(b) (two times) introductory text. | MMS-4058 | ONRR-4058.
§ 1210.102(b)(1) | MMS-4058 | ONRR-4058.
§ 1210.102(b)(2) | MMS-4058 | ONRR-4058.
§ 1210.102(b)(2)(vi) | MMS-4058 | ONRR-4058.
§ 1210.103(a) | MMS-4054 | ONRR-4054.
§ 1210.103(a) | MMS-4058 | ONRR-4058.
§ 1210.104(a) | MMS-4054 | ONRR-4054.
§ 1210.104(a) | MMS-4058 | ONRR-4058.
§ 1210.105(a) introductory text | MMS-4054 | ONRR-4054.
§ 1210.105(a) introductory text | MMS-4058 | ONRR-4058.
§ 1210.106(c) | MMS-4054 | ONRR-4054.
§ 1210.106(c) | MMS-4058 | ONRR-4058.
§ 1210.151(a) | MMS-4393 | ONRR-4393.
§ 1210.151(b) | MMS-4393 | ONRR-4393.
§ 1210.151(c) introductory text | MMS-4393 | ONRR-4393.
§ 1210.152(a)(1) | MMS-4110 | ONRR-4110.
§ 1210.152(a)(2) | MMS-4109 | ONRR-4109.
§ 1210.152(a)(3) | MMS-4295 | ONRR-4295.
§ 1210.152(b) | MMS-4110, MMS-4109, and MMS-4295 | ONRR-4110, ONRR-4109, and ONRR-4295.
§ 1210.152(c) introductory text | MMS-4110, MMS-4109, and MMS-4295 | ONRR-4110, ONRR-4109, and ONRR-4295.
§ 1210.153(a)(1) | MMS-4410 | ONRR-4410.
§ 1210.153(a)(2) | MMS-4411 | ONRR-4411.
§ 1210.153(b) | MMS-4410 and MMS-4411 | ONRR-4410 and ONRR-4411.
§ 1210.153(c) | MMS-4410 and MMS-4411 | ONRR-4410 and ONRR-4411.
§ 1210.155(a) | MMS-4377 | ONRR-4377.
§ 1210.155(b) | MMS-4377 | ONRR-4377.
§ 1210.158(a) | MMS-4425 | ONRR-4425.
§ 1210.158(b) | MMS-4425 | ONRR-4425.
§ 1210.158(c) introductory text | MMS-4425 | ONRR-4425.
§ 1210.201 section heading | MMS-4430 | ONRR-4430.
§ 1210.201(a)(1) | MMS-4430 | ONRR-4430.
§ 1210.201(a)(2) (three times) | MMS-4430 | ONRR-4430.
§ 1210.201(a)(3) | MMS-4430 | ONRR-4430.
§ 1210.201(b)(1) (two times) | MMS-4430 | ONRR-4430.
§ 1210.201(b)(2) | MMS-4430 | ONRR-4430.
§ 1210.201(b)(3) | MMS-4430 | ONRR-4430.
§ 1210.201(b)(4) (three times) | MMS-4430 | ONRR-4430.
§ 1210.201(c)(1) | MMS-4430 | ONRR-4430.
§ 1210.201(c)(3) | MMS-4430 | ONRR-4430.
§ 1210.202(a)(2) | MMS-4430 | ONRR-4430.
§ 1210.202(b)(1) | MMS-4430 | ONRR-4430.
§ 1210.204(b) | MMS-4430 | ONRR-4430.
§ 1210.205(a)(1) | MMS-4292 | ONRR-4292.
§ 1210.205(a)(2) | MMS-4293 | ONRR-4293.
§ 1210.205(c) | MMS-4292 and MMS-4293 | ONRR-4292 and ONRR-4293.

19. Revise § 1210.353 to read as follows:

§ 1210.353 Monthly report of sales and royalty.

You must submit a completed Report of Sales and Royalty Remittance (Form ONRR-2014) each month once sales or use of production occur, even though sales may be intermittent, unless ONRR otherwise authorizes. This report is due on or before the last day of the month following the month in which production was sold or used, together with the royalties due to the United States.

PART 1218—COLLECTION OF ROYALTIES, RENTALS, BONUSES, AND OTHER MONIES DUE THE FEDERAL GOVERNMENT

20. The authority citation for part 1218 continues to read as follows:

Authority: 25 U.S.C. 396 et seq., 396a et seq., 2101 et seq.; 30 U.S.C. 181 et seq., 351 et seq., 1001 et seq., 1701 et seq.; 31 U.S.C. 3335; 43 U.S.C. 1301 et seq., 1331 et seq., and 1801 et seq.

§§ 1218.40, 1218.41, 1218.50, 1218.51, 1218.52, 1218.53, 218.53 (1218.153), 1218.154, 1218.201, 1218.203, 1218.500, 1218.520, 1218.540, 1218.560, and 1218.580 [Amended]

21. In the following table, amend part 1218 in the sections indicated in the left column by removing the text in the center column and adding in its place the text in the right column:

Amend | By removing the reference to: | And adding in its place:
§ 1218.40(c)(1) | MMS-4430 | ONRR-4430.
§ 1218.40(c)(1) | MMS-2014 | ONRR-2014.
§ 1218.40(c)(2) | MMS-2014 | ONRR-2014.
§ 1218.41 in Section Heading | MMS-2014 | ONRR-2014.
§ 1218.41(a) | MMS-2014, MMS-4430 | ONRR-2014, ONRR-4430.
§ 1218.41(b) | MMS-2014, MMS-4430 | ONRR-2014, ONRR-4430.
§ 1218.41(c)(1) | MMS-2014 | ONRR-2014.
§ 1218.41(d) | MMS-2014 | ONRR-2014.
§ 1218.41(d) | MMS-4430 | ONRR-4430.
§ 1218.50(d)(1) | MMS-2014 | ONRR-2014.
§ 1218.50(d)(2) (two times) | MMS-2014 | ONRR-2014.
§ 1218.51(a), definition of Report | MMS-2014 | ONRR-2014.
§ 1218.51(f)(1) | MMS-2014 | ONRR-2014.
§ 1218.51(f)(4)(iii) | MMS-2014 | ONRR-2014.
§ 1218.52(a) | MMS-4425 | ONRR-4425.
§ 1218.52(c) | MMS-4425 | ONRR-4425.
§ 1218.53(a) | MMS-2014 | ONRR-2014.
§ 1218.154(a) | BOEMRE | Bureau of Safety and Environmental Enforcement (BSEE).
§ 1218.154(b) | BOEMRE | BSEE.
§ 1218.201(a) | MMS-4430 | ONRR-4430.
§ 1218.201(a) | MMS-2014 | ONRR-2014.
§ 1218.201(b) | MMS-4430 | ONRR-4430.
§ 1218.201(c) | MMS-4430 | ONRR-4430.
§ 1218.203(a) | MMS-4430 | ONRR-4430.
§ 1218.500 | MMS-4444 | ONRR-4444.
§ 1218.520, definition of Addressee of record for service of official correspondence | MMS-4444 | ONRR-4444.
§ 1218.540(b)(1) (two times) | MMS-4444 | ONRR-4444.
§ 1218.540(b)(2) | MMS-4444 | ONRR-4444.
§ 1218.560 in Section Heading | MMS-4444 | ONRR-4444.
§ 1218.560 (two times) | MMS-4444 | ONRR-4444.
§ 1218.580 in Section Heading | MMS-4444 | ONRR-4444.
§ 1218.580 | MMS-4444 | ONRR-4444.

§ 1218.153 [Corrected]

22. Correctly revise the section designation for § 218.153 to read § 1218.153.

§ 1218.500 [Corrected]

23. Correctly revise the section designation for § 2218.500 to read § 1218.500

PART 1220—ACCOUNTING PROCEDURES FOR DETERMINING NET PROFIT SHARE PAYMENT FOR OUTER CONTINENTAL SHELF OIL AND GAS LEASES

§ 1220.002 [Amended]

24. Amend § 1220.002 by removing the definition of Director.

§§ 1220.002, 1220.011, 1220.014, 1220.015, 1220.031, 1220.032, 1220.033, and 1220.034 [Amended]

25. In the following table, amend part 1220 in the sections indicated in the left column by removing the text in the center column and adding in its place the text in the right column:

Amend | By removing the reference to: | And adding in its place:
§ 1220.002, definition of Capital recovery period (1) | Bureau of Ocean Energy Management, Regulation, and Enforcement (BOEMRE) | Bureau of Ocean Management (BOEM).
§ 1220.002, definition of Capital recovery period (3) | Director | BOEM Director.
§ 1220.011(d)(1) | Director | Office of Natural Resources Revenue (ONRR) Director.
§ 1220.011(d)(2) (two times) | Director | ONRR Director.
§ 1220.011(g)(1)(i) | Director | ONRR Director.
§ 1220.011(g)(2) (two times) | Director | ONRR Director.
§ 1220.011(o) | Director | ONRR Director.
§ 1220.011(o) | Director | BOEM Director.
§ 1220.014(d) (two times) | Director | BSEE Director.
§ 1220.015(b)(1) | Director | ONRR Director.
§ 1220.031(f) | Director | ONRR Director.
§ 1220.032(b) (three times) | Director | BOEM Director.
§ 1220.032(d) | Director | BOEM Director.
§ 1220.033(b)(1) | Director | ONRR Director.
§ 1220.033(c)(2) | Director | ONRR Director.
§ 1220.033(e) | Director | ONRR Director.
§ 1220.034(a) | Director | ONRR Director.
§ 1220.034(d) | Director | ONRR Director.

PART 1243—SUSPENSIONS PENDING APPEAL AND BONDING—OFFICE OF NATURAL RESOURCES REVENUE

Subpart A—General Provisions

§§ 1243.3 and 1243.8 [Amended]

26. In the following table, amend part 1243 in the sections indicated in the left column by removing the text in the center column and adding in its place the text in the right column:

Amend | By removing the reference to: | And adding in its place:
§ 1243.3, definition of ONRR bond-approving officer. | Associate Director for Minerals Revenue Management. | Deputy Director for Office of Natural Resources Revenue.
§ 1243.3 | Associate Director | Deputy Director.
§ 1243.8 | BOEMRE | Bureau of Ocean Energy Management

Subchapter B—Appeals

PART 1290—APPEAL PROCEDURES

27. The authority citation for part 1290 continues to read as follows:

Authority: 5 U.S.C. 301 et seq.; 43 U.S.C. 1331.

§§ 1290.100, 1290.101, 1290.102, 1290.104, 1290.106, 1290.108, 1290.109 [Amended]

28. In the following table, amend part 1290 in the sections indicated in the left column by removing the text in the center column and adding in its place the text in the right column:

Amend | By removing the reference to: | And adding in its place:
§ 1290.100 Section Heading. | subpart | part
§ 1290.100 (two times) | subpart | part
§ 1290.101 in Section Heading. | subpart | part
§ 1290.101 | subpart | part
§ 1290.102 in Section Heading. | subpart | part
§ 1290.102, definition of Lessee (two times) | subpart | part
§ 1290.102, definition of Order | subpart | part
§ 1290.102, definition of Party | subpart | part
§ 1290.104 in Section Heading | subpart | part
§ 1290.104(a) | subpart | part
§ 1290.104(b) | part 243 | part 243
§ 1290.104(b) | subparts | parts
§ 1290.106(b) | subpart | part
§ 1290.106(e) | subpart | part
§ 1290.108 | subpart | part
§ 1290.109(a) introductory text | subpart | part

[FR Doc. 2013-11993 Filed 5-21-13; 8:45 am]

BILLING CODE 4310-T2-P